NUCLEAR REGULATORY COMMISSION

Notice of Issuance of Regulatory Guide

AGENCY: Nuclear Regulatory Commission.

ACTION: Notice of Issuance and Availability of Regulatory Guide 6.4, Revision 3.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 3 of Regulatory Guide 6.4, “Verification of Containment Properties of Sealed Radioactive Sources,” was issued with a temporary identification as Draft Regulatory Guide DG-6005. This guide directs the reader to the type of information acceptable to the NRC staff to evaluate and verify the containment properties of sealed radioactive sources. The NRC licenses the manufacture and distribution of devices containing radioactive byproduct material under Title 10, Part 32, “Specific Domestic Licenses to Manufacture or Transfer Certain Items Containing Byproduct Material,” of the Code of Federal Regulations (10 CFR Part 32). The regulations require, in part, that each application for a specific license to distribute devices containing byproduct material include information on procedures for prototype tests and the results of such tests to demonstrate that the source or device will maintain its integrity during the most severe conditions that are likely to be encountered under normal or accidental conditions of handling, storage, use, and disposal of the sealed radioactive source.

This regulatory guide endorses the methods and procedures for evaluation and verification of the containment properties of sealed radioactive sources contained in the current revision of NUREG-1556, Volume 3, “Consolidated Guidance about Materials Licenses: Applications for Sealed Source and Device Evaluation and Registration” as a process that has been found acceptable to the NRC staff for meeting the regulatory requirements. Since the publication of Revision 2 of Regulatory Guide 6.4 in August 1980, the NRC has revised the requirements for byproduct material containments in 10 CFR Part 32 to implement a risk-informed, performance-based approach to regulation. NUREG-1556 incorporates this revised approach.

II. Further Information

In January 2008, DG-6005 was published with a public comment period of 60 days from the issuance of the guide. No comments were received and the public comment period closed on April 18, 2008. Electronic copies of Regulatory Guide 6.4, Revision 3 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 18th day of June 2008.
For the Nuclear Regulatory Commission.
Stephen C. O'Connor,
Acting Chief, Regulatory Guide Development Branch, Division of Engineering, Office of Nuclear Regulatory Research.

[FR Doc. E8-14314 Filed 6-24-08; 8:45 am]

BILLING CODE 7590-01-P